DEPARTMENT OF THE INTERIOR

Office of the Secretary

[Docket No. ONRR-2012-0003; DS63600000 DR2PS0000.PX8000 134D0102R2]

U.S. Extractive Industries Transparency Initiative Multi-Stakeholder Group (USEITI MSG) Advisory Committee

AGENCY: Policy, Management and Budget, Interior.

ACTION: Meeting.

SUMMARY: This notice announces the rescheduling of the U.S. Extractive Industries Transparency Initiative (USEITI) public outreach sessions that were cancelled due to the Federal Government lapse in appropriations. This notice also serves to extend the public's opportunity to comment on the draft USEITI Candidacy Application.

DATES: The online webinar that had been scheduled for October 2, 2013 will now take place November 4, 2013, from 1:00-3:00 p.m. Eastern Time. View the presentation via WebEx at http://bit.ly/ZQ9aQP and dial into a moderated conference line at 888-456-0321 (Passcode: USEITI).

The public outreach session scheduled for October, 10, 2013 is rescheduled for November 14, 2013, and will occur in-person from 4:00 p.m. to 7:00 p.m. Eastern Time at the Office of Surface Mining Reclamation and Enforcement, 3 Parkway Center, 2nd Floor, Pittsburgh, Pennsylvania 15220. Members of the public may attend in person.

The deadline to submit public comments on the draft USEITI Candidacy Application is extended to November 18, 2013. Comments may be provided in writing or in person at the public outreach sessions and public webinar, or online at www.doi.gov/eiti.

FOR FURTHER INFORMATION CONTACT: Rosita Compton Christian, USEITI Secretariat; 1849 C Street NW., MS-4211, Washington, DC 20240. You may also contact the USEITI Secretariat via email at useiti@ios.doi.gov, by phone at 202-208-0272, or by fax at 202-513-0682.

SUPPLEMENTARY INFORMATION: The U.S. Department of the Interior established the USEITI Advisory Committee (Committee) on July 26, 2012, to serve as the initial USEITI multi-stakeholder group. More information about the Committee, including its charter, can be found at www.doi.gov/eiti/faca.

If you require special assistance (such as an interpreter for the hearing impaired), please notify Interior staff in advance of the meetings at 202-208-0272 or via email at useiti@ios.doi.gov.

Anyone wishing to provide comments during the public comment period must submit written statements by November 18, 2013to useiti@ios.doi.gov or to the attention of the USEITI Secretariat, U.S. Department of the Interior, 1849 C St, NW MS-4211, Washington, DC 20240. In addition, individuals or groups wishing to make comments in person or via the online webinar may do so during the designated time on the agenda, as time permits.

For more information on USEITI, visit www.doi.gov/eiti.

Dated: October 23, 2013.
Amy Holley,
Chief of Staff—Policy, Management and Budget.

[FR Doc. 2013-25462 Filed 10-28-13; 8:45 am]

BILLING CODE P